DEPARTMENT OF TRANSPORTATION

Office of the Secretary

Notice of Applications for Certificates of Public Convenience and Necessity and Foreign Air Carrier Permits Filed Under Subpart B (Formerly Subpart Q) During the Week Ending June 7, 2014

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0095.

Date Filed: June 2, 2014.

Due Date for Answers, Conforming Applications, or Motion To Modify Scope: June 23, 2014.

Description: Application of Azul Linhas Aereas Brasileiras S.A. requesting an exemption and foreign air carrier permit authorizing it to engage in scheduled and charter foreign air transportation of persons, property and mail from any point or points behind Brazil, via Brazil and intermediate points, to any point or points in the United States and beyond, to the full extent permitted by the Air Transport Agreement between the Government of the United States of America and the Government of the Federative Republic of Brazil.

Barbara J. Hairston,
Supervisory Dockets Officer, Docket Operations, Federal Register Liaison.

[FR Doc. 2014-14605 Filed 6-20-14; 8:45 am]

BILLING CODE 4910-9X-P